ENVIRONMENTAL PROTECTION AGENCY

[FRL-9916-93-Region-6]

Final NPDES General Permit Modification for Discharges From the Oil and Gas Extraction Point Source Category to Coastal Waters in Texas and Onshore Stripper Well Category East of the 98th Meridian (TXG330000)

AGENCY: Environmental Protection Agency.

ACTION: Final decision of NPDES general permit modification.

SUMMARY: The Director of the Water Quality Protection Division, for the Environmental Protection Agency (EPA) Region 6 today announces issuance of the final permit modifications for the National Pollutant Discharge Elimination System (NPDES) general permit (TXG330000) regulating discharges from oil and gas wells in the Coastal Subcategory in Texas and in the Stripper Subcategory which discharge into waters in Texas. These modifications would restore coverage eligibility for certain inland discharges that existed in the previous permit and require freshwater whole effluent toxicity species for discharges to freshwater receiving waters.

EPA proposed the draft permit modification in the Federal Register on December 2, 2013. EPA Region 6 has considered all comments received and makes few significant changes to the proposed permit. A copy of the Region's responses to comments and the final permit may be obtained from the EPA Region 6 internet site: http://www.epa.gov/region6/water/npdes/genpermit/index.htm.

FOR FURTHER INFORMATION CONTACT: Ms. Evelyn Rosborough, Region 6, U.S. Environmental Protection Agency, 1445 Ross Avenue, Dallas, Texas 75202-2733. Telephone: (214) 665-7515.

DATES: This permit modification is effective on September 22, 2014, and expires July 6, 2017. In accordance with 40 CFR 23, this permit shall be considered issued for the purpose of judicial review on October 6, 2014. Under section 509(b) of the CWA, judicial review of this general permit can be held by filing a petition for review in the United States Court of Appeals within 120 days after the permit is considered issued for judicial review. Under section 509(b)(2) of the CWA, the requirements in this permit may not be challenged later in civil or criminal proceedings to enforce these requirements. In addition, this permit may not be challenged in other agency proceedings.

SUPPLEMENTARY INFORMATION:

Changes from the proposed permit modification include:

1. Add “no visible sheen” limit to produced water discharges to inland waters;

2. Replace acute 48-hour toxicity freshwater testing with acute 24-hour toxicity LC-50 freshwater and remove the cease discharge requirement; and

3. Set October 1, 2017, deadline to comply with the acute Toxicity LC-50 limit.

Other Legal Requirements

A. State Certification

Under section 401(a)(1) of the CWA, EPA may not issue an NPDES permit until the State in which the discharge will occur grants or waives certification to ensure compliance with appropriate requirements of the CWA and State law. The Railroad Commission of Texas issued the 401 certification on May 30, 2014.

B. Other Regulatory Requirements

When EPA issued the general permit in 2012, EPA had conducted evaluations required by Coastal Zone Management Act, National Environmental Policy Act, Endangered Species Act, Magnuson-Stevens Fishery Conservation and Management Act, Historic Preservation Act, Paperwork Reduction Act, and Regulatory Flexibility Act. The scope of today's permit modification action does not trigger requirements for new evaluations for compliance with those regulatory requirements.

Dated: September 11, 2014.
William K. Honker,
Director, Water Quality Protection Division, EPA Region 6.

[FR Doc. 2014-22470 Filed 9-19-14; 8:45 am]

BILLING CODE 6560-50-P